DEPARTMENT OF COMMERCE

National Oceanic and Atmospheric Administration

[I.D. 092503B]

Western Pacific Fishery Management Council; Public Meetings

AGENCY: National Marine Fisheries Service (NMFS), National Oceanic and Atmospheric Administration (NOAA), Commerce.

ACTION: Notice of public meetings and hearings.

SUMMARY: The Western Pacific Fishery Management Council's (Council) Scientific and Statistical Committee (SSC) will meet on Tuesday, October 14, 2003, through Wednesday October 16, 2003; and the Council will hold its 120th meeting from Monday October 20, 2003 through Thursday October 23, 2003, in Honolulu, HI. (see SUPPLEMENTARY INFORMATION for specific times, dates, and agenda items).

ADDRESSES: The SSC meeting will be held at the Council Office Conference Room, 1164 Bishop St., Suite 1400, Honolulu, HI; telephone: (808) 522-8220. The Council meeting will be held at Pagoda Hotel, Cest'Si Bon Room, 1525 Rycroft Street, Honolulu, HI 96814; telephone (808) 941-6611.

FOR FURTHER INFORMATION CONTACT: Kitty M. Simonds, Executive Director; telephone: 808-522-8220.

SUPPLEMENTARY INFORMATION:

Dates and Times

The SSC meeting will be held from 9 a.m. to 5 p.m. on October 14, 2003, and from 8:30 a.m. to 5 p.m. on October 15-16, 2003.

1. Introductions

2. Approval of draft agenda and assignment of rapporteur

3. Approval of the minutes of the 83rd meeting

4. Bottomfish

A. Stock assessment workshop

B. Main Hawaiian Islands (MHI) catch data project

C. Genetic research proposal

D. Status of MHI area closure review

E. Report on MHI scoping meeting

F. Seamount groundfish moratorium

5. Protected species

A. Status of Sea Turtle Recovery Team and Recovery Plans

B. Observer programs: objectives and design

6. Crustaceans fisheries

A. Report on Northwestern Hawaiian Islands (NWHI) 2003 lobster research cruise

B. Results of September lobster tagging charter

C. Application of lobster research in stock assessment model

7. Precious Corals

A. Report on MHI black coral meeting

8:30 a.m. Wednesday, October 15, 2003

8. Pelagic Fisheries

A. American Samoa and Hawaii Longline Quarterly Reports

B. Tuna and billfish stock assessments

C. Final Report on phase two of chute trials for seabird conservation

D. Turtle conservation and management

a. Update on Judge Kotelly's ruling vacating the June 2002 regulations and 2002 Biological Opinion

b. Movement and survivorship of turtles released from Longline fisheries

c. Status of Environmental Impact Statements (EIS)

i. Supplemental Pelagic EIS

ii. MHI Turtle EIS

iii. Longline Experimental Permit EIS

1. Preferred alternative

2. Atlantic mitigation experiments

d. Turtle Advisory Committee & Database meetings

e. Council turtle conservation actions

f. Measures to manage Hawaii's Longline fishery

E. Marlin management

a. Report on public scoping meetings

b. Marlin tagging project

F. Private fish aggregation devices

G. Shark management

H. Report on international meetings and issues

a. Standing Committee on Tuna and Billfish

b. Predatory conference

c. People and the Sea Conference

d. Inter-American Convention on Sea Turtles

8:30 a.m. Thursday, October 16, 2003

Ecosystem and Habitat

A. Northwestern Hawaiian Islands/Mariana Islands Archipelagic Ecological Assessments

B. NWHI Sanctuary designation progress report

C. Report on the State of Hawaii papio and ulua tagging project

10. Other business

A. Draft Pacific Islands Region Strategic Plan - Research

B. 85th SSC meeting

11. Summary of SSC Recommendations to the Council

Council Standing Committee Meetings

The following Standing Committees of the Council will meet on Monday, October 20, 2003. Enforcement/Vessel Monitoring System (VMS) from 7:30 a.m. to 9 a.m.; Fishery Rights of Indigenous People from 7:30 a.m. to 9 a.m.; International Fisheries/Pelagics from 9 a.m. to 12 noon; Bottomfish from 9 a.m. to 12 noon; Ecosystem and Habitat from 1:30 p.m. to 3 p.m.; Crustaceans and Precious Corals from 3 p.m. to 4:30 p.m.; and Executive/Budget and Program from 4:30 p.m. to 6 p.m.

In addition, the Council will hear recommendations from its scientific and statistical committee, and other ad hoc groups. Public comment periods will be provided throughout the agenda. The order in which agenda items are addressed may change. The Council will meet as late as necessary to complete scheduled business.

Public Hearing

Public hearing will be held to solicit comments on long-term management measures for the region's pelagic fishery on October 22, 2003 at 4:30 p.m. at the Pagoda Hotel, Honolulu HI. The agenda during the full Council meeting will include the items listed here.

9 a.m. Tuesday, October 21, 2003

1. Introductions

2. Approval of agenda

3. Approval of 118th and 119th meeting minutes

4. Island reports

A. American Samoa

B. Guam

C. Hawaii

D. Commonwealth of the Northern Mariana Islands (CNMI)

5. Reports from fishery agencies and organizations

A. Department of Commerce

a. NMFS

i. Pacific Islands Regional Office

ii. Pacific Islands Fisheries Science Center

b. NOAA General Counsel Southwest Region

c. National Ocean Service

B. Department of the Interior, U.S. Fish and Wildlife Service

6. Enforcement/vessel monitoring system (VMS)

A. U.S. Coast Guard activities

B. NMFS activities

C. Enforcement activities of local agencies

D. Status of violations

E. Report on national VMS program and policies

F. Options for using electronic logbooks for Hawaii longline fishery

Guest Speaker: Ueta Fa'asili Strategic plan for fisheries management and sustainable coastal fisheries in Pacific islands

7. Observer programs

A. Objectives and design

B. Monitoring and compliance policy

C. Native observer program

8. Precious coral fisheries

A. Report on precious coral industry meeting black coral minimum size

9. Crustaceans fisheries

A. Status of lobster research

a. Report on the 2003 Annual Lobster Resource Cruise

b. Report on the 2003 Lobster Tagging Charter

B. Progress on NWHI lobster population model

10. Fishery Rights of indigenous peoples

A. Revision of CNMI marine conservation plan

B. Status and prognosis of community demonstration projects program

C. Community Development Program (CDP)

a. Status of Mau Zone CDP regulations

b. Indigenous database

c. Guam community monitoring program options

D. Saltonstall-Kennedy solicitation, June 30, 2003, Omnibus solicitation

Wednesday, October 22, 2003

11. Pelagic/international fisheries

A. American Samoa & Hawaii longline quarterly reports

B. Standing Committee on Tuna and Billfish stock assessments

C. Report on Hawaii longline observer program

D. Final report on phase two of chute trials for seabird conservation

E. Turtle conservation and management

a. Update on Judge Kollar-Kotelly's ruling vacating the June 2002 regulations and 2002 Biological Opinion

b. Movement and survivorship of turtles released from longline fisheries

c. Status of Environmental Impact Statements (EISs)

i. Supplemental Pelagic EIS

ii. MHI Turtle EIS

iii. Longline experimental permit EIS

1. Preferred alternative

2. Atlantic mitigation experiments

d. Turtle Advisory Committee & Database meetings

e. Council turtle conservation actions

f. Measures to manage Hawaii's longline fishery

F. Marlin management - Report on public scoping meeting

G. Private fish aggregation devices - Report on public scoping meetings

H. Shark management (Action Item)

I. International meetings

a. Standing Committee on Tuna and Billfish

b. Preparatory Conference

c. People and the Sea Conference

d. Inter-American Convention on Sea Turtles

J. Public hearing on measures to manage the Hawaii longline fishery

A public hearing will be held to receive comments on long-term management of the pelagic fishery of the Western Pacific Region, especially the Hawaii-based longline fishery. The Council is developing an amendment to the regulations under the Fishery Management Plan for the Pelagics Fisheries of the Western Pacific Region that would address the fact that an August 31, 2003, Court order vacated NMFS' 2002 Biological Opinion and related regulations, removing any authorization of incidental takes of sea turtles by the fishery that had been provided by the Biological Opinion. At its 119th meeting, the Council took final action to recommend an emergency rule for the short-term management of the longline fishery to conserve sea turtles, and also directed its staff to analyze and document the impacts of a range of alternatives for the long-term management of the fishery. At its 120th meeting, the Council may take final action to recommend a preferred long-term alternative, or it may defer that decision to a later date.

Thursday, October 23, 2003

12. Ecosystems and Habitat

A. NWHI/CNMI Archipelago Ecological Assessments

B. Status of NWHI Reserve Operations Plan

C. NWHI Sanctuary designation process report

D. Pacific National Wildlife Refuge expansion

a. Midway Atoll National Wildlife Refuge expansion

b. Hawaiian Island National Wildlife Refuge expansion proposal

E. Report on the U.S. Coral Reef Task Force meeting

a. Pacific regional/local action strategies

b. Guam/Hawaii coral reef fisheries management workshops

13. Bottomfish fisheries

A. Report on MHI management program review

B. Report on Hawaii public scoping meetings

C. Report on CNMI public scoping meetings

D. Seamount groundfish moratorium (expires 8/04)

1. Status of fishery

2. Management options: continue moratorium, closure, other

14. Program planning

A. Legislation

B. Pacific Islands Region Strategic Plan

C. CNMI fishery development project

D. Report on programmatic grants

15. Administrative matters

A. Financial reports

B. Administrative report

C. Meetings and workshops

D. Advisory Group changes

16. Election of officers

17. Other business

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or (808)522-8226 (fax), at least 5 days prior to the meeting date.

Authority: 1801 et seq.

Dated: September 29, 2003.
Bruce C. Morehead,
Acting Director, Office of Sustainable Fisheries, National Marine Fisheries Service.

[FR Doc. 03-25026 Filed 10-1-03; 8:45 am]

BILLING CODE 3510-22-S